COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete product(s) and service(s) from the Procurement List that were furnished by nonprofit agencies employing persons who are blind or have other severe disabilities.

DATES: Comments must be received on or before: April 6, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s): 7350-01-693-8670—Bowl, Paper, Round 8 Oz., White

Authorized Source of Supply: The Lighthouse for the Blind in New Orleans, Inc., New Orleans, LA

Contracting Activity: GSA/FSS GREATER SOUTHWEST ACQUISITI, FORT WORTH, TX

Service(s)

Service Type: Medical Transcription

Mandatory for: Department of Veterans Affairs, Durham VA Medical Center, Durham, NC

Authorized Source of Supply: Lighthouse for the Blind of Houston, Houston, TX

Contracting Activity: Veterans Affairs, Department of, 246—Network Contracting Office 6

Service Type: Medical Transcription

Mandatory for: Department of Veterans Affairs, VISN 20, VA Medical Center, Boise, ID

Authorized Source of Supply: Lighthouse for the Blind of Houston, Houston, TX

Contracting Activity: Veterans Affairs, Department of, 246—Network Contracting Office 20(00260)

Service Type: MEDICAL TRANSCRIPTION SERVICES

Mandatory for: Department of Veterans Affairs, VISN 20, VA Medical Center, Portland, OR

Authorized Source of Supply: Lighthouse for the Blind of Houston, Houston, TX

Contracting Activity: Veterans Affairs, Department of, 246—Network Contracting Office 20(00260)

Service Type: Switchboard Operation

Mandatory for: Veterans Affairs Outpatient Clinic, Beaumont, TX

Authorized Source of Supply: Lighthouse for the Blind of Houston, Houston, TX

Contracting Activity: Veterans Affairs, Department of, NAC

Service Type: Switchboard Operation

Mandatory for: Department of Veterans Affairs: Outpatient Clinic, Lufkin, TX

Authorized Source of Supply: Lighthouse for the Blind of Houston, Houston, TX

Contracting Activity: Veterans Affairs, Department of, NAC

Service Type: Switchboard Operation

Mandatory for: Department of Veterans Affairs, VAMC, Biloxi, MS

Authorized Source of Supply: The Lighthouse for the Blind in New Orleans, Inc., New Orleans, LA

Contracting Activity: Veterans Affairs, Department of, 520-BILOXI (00520)

Service Type: Telephone Switchboard Operations

Mandatory for: Department of Veterans Affairs, VA Medical Center, Kansas City, MO

Authorized Source of Supply: Alphapointe, Kansas City, MO

Contracting Activity: Veterans Affairs, Department of, NAC

Michael R. Jurkowski,
Director, Business Operations.

[FR Doc. 2025-03690 Filed 3-6-25; 8:45 am]

BILLING CODE 6353-01-P